DEPARTMENT OF JUSTICE

Notice of Lodging of Consent Decree Under the Clean Air Act

Notice is hereby given that on June 16, 2009, a proposed Consent Decree (Decree) in the case of United States v. American Laboratories, Inc., Civil Action No. 8:09-CV-00194, was lodged with the United States District Court for the District of Nebraska. Under this Consent Decree, the Settling Defendant is required to pay a total of $440,000 in civil penalty for alleged violations of the Clean Air Act, and recover and reuse at 93% of total isopropyl alcohol and implement best available control technology at its pharmaceutical manufacturing plant in Omaha, Nebraska.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States v. American Laboratories, Inc., D.J. Ref. No. 90-5-2-1-08313.

The Decree may be examined at the Office of the United States Attorney, 1620 Dodge Street, Suite 1400, Omaha, Nebraska 68102. During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $9.25 (with attachments) or $8.00 (without attachments) (25 cents per page reproduction cost) payable to the United States Treasury or, if by e-mail or fax, forward a check in that amount to the Consent Decree Library at the stated address.

Maureen M. Katz,
Assistant Section Chief, Environmental Enforcement Section, Environment and Natural Resources Division.

[FR Doc. E9-17696 Filed 7-23-09; 8:45 am]

BILLING CODE 4410-15-P